DEPARTMENT OF HOMELAND SECURITY

Federal Emergency Management Agency

44 CFR Part 65

[Docket ID FEMA-2011-0002]

Changes in Flood Elevation Determinations

Correction

In rule document 2011-33772 appearing on pages 423-425 in the issue of Thursday, January 5, 2012 make the following correction:

§ 65.4 [Corrected]

On page 425, in the table, in the column “Chief executive officer of community”, on the 10th line, “Mr. Robert Hyatt Davidson, County Manager” should read “Mr. Robert Hyatt, Davidson County Manager”.

[FR Doc. C1-2011-33772 Filed 4-5-12; 8:45 am]

BILLING CODE 1505-01-D